DEPARTMENT OF STATE

[Public Notice: 10205]

Notice of Public Meeting of the International Telecommunication Advisory Committee and Preparations for Upcoming International Telecommunications Meetings

This notice announces a meeting of the Department of State's International Telecommunication Advisory Committee (ITAC). The ITAC will meet on December 7, 2017 at 10:00 a.m. EST at 1120 20th St. NW., 10th Floor, Washington, DC to report on the outcome of the World Telecommunication Development Conference, review the results of recent multilateral meetings, updates on preparations for the International Telecommunication Union (ITU) 2018 Plenipotentiary Conference (PP-18), and discuss preparations for upcoming multilateral meetings at ITU, the Organization for Economic Cooperation and Development (OECD), and the Asia Pacific Economic Cooperation (APEC). The meeting will focus on the following topics:

1. Results of Recent Multilateral Meetings

a. ITU Council Working Groups

b. World Telecommunication Development Conference

c. ITU-R SG4, SG5, SG6, and SG7 block meetings

d. Inter-American Telecommunication Commission (CITEL)

• Permanent Consultative Committee on Radiocommunication (PCC-II)

2. Meeting of the Permanent Executive Committee (COM/CITEL) 2018 ITU Plenipotentiary Conference (PP-18) preparatory process and U.S. priorities

3. Preparations for upcoming Multilateral Activities

a. ITU-R meetings

b. ITU-T meetings

c. ITU-D meetings

d. ITU Council Working Groups and Experts Group on International Telecommunications Regulations (ITRs)

e. WSIS Forum

f. APEC Telecommunications Working Group (APEC TEL 56)—December 11-15, 2017

PP-18 will take place in Dubai, United Arab Emirates, from October 29 to November 17, 2018. The Plenipotentiary Conference, which takes place every four years, is the highest policy-making body of the Union. PP-18 will determine the overall policy direction of the ITU; adopt the strategic and financial plans for the next four years; elect the 48 members of Council, 12 members of the Radio Regulations Board, and five Elected Officials; and consider and adopt, if appropriate, modifications to the ITU Constitution and Convention.

Attendance at this meeting is open to the public as seating capacity allows. The public will have an opportunity to provide comments at this meeting at the invitation of the chair. Further details on this ITAC meeting will be announced on the Department of State's email list, ITAC@lmlist.state.gov. Use of the ITAC list is limited to meeting announcements and confirmations, distribution of agendas and other relevant meeting documents. The Department welcomes any U.S. citizen or legal permanent resident to remain on or join the ITAC listserv by registering by email via ITAC@state.gov and providing his or her name, email address, telephone contact and the company, organization, or community that he or she is representing, if any. Persons wishing to request reasonable accommodation during the meeting should send their requests to ITAC@state.gov no later than November 30, 2017. Requests made after that time will be considered, but might not be able to be fulfilled.

Please send all inquiries to ITAC@state.gov.

Cecily C. Holiday,
Acting Director, Multilateral Affairs, Cyber and International Communications, and Information Policy, Department of State.

[FR Doc. 2017-25235 Filed 11-21-17; 8:45 am]

BILLING CODE 4710-AE-P